DEPARTMENT OF JUSTICE

Antitrust Division

Notice Pursuant to the National Cooperative Research and Production Act of 1993—Cooperative Research Group on Development and Evaluation of a Gas Chromatograph Testing Protocol

Notice is hereby given that, on August 26, 2008, pursuant to Section 6(a) of the National Cooperative Research and Production Act of 1993, 15 U.S.C. 4301 et seq. (“the Act”), Southwest Research Institute—Cooperative Research Group on Development and Evaluation of a Gas Chromatograph Testing Protocol (“GCTP”) has filed written notifications simultaneously with the Attorney General and the Federal Trade Commission disclosing changes in its membership. The notifications were filed for the purpose of extending the Act's provisions limiting the recovery of antitrust plaintiffs to actual damages under specified circumstances. Specifically, EffeTech, Ltd., Staffordshire, UNITED KINGDOM has been added as a party to this venture.

No other changes have been made in either the membership or planned activity of the group research project. Membership in this group research project remains open, and GCTP intends to file additional written notifications disclosing all changes in membership.

On March 6, 2008, GCTP filed its original notification pursuant to Section6(a) of the Act. The Department of Justice published a notice in the Federal Register pursuant to Section 6(b) of the Act on April 7, 2008 (73 FR 18813).

The last notification was filed with the Department on June 4, 2008. A notice was published in the Federal Register pursuant to Section 6(b) of the Act on July 16, 2008 (73 FR 40882).

Patricia A. Brink,
Deputy Director of Operations, Antitrust Division.

[FR Doc. E8-22663 Filed 9-26-08; 8:45 am]

BILLING CODE 4410-11-M